DEPARTMENT OF ENERGY

Federal Energy Regulatory Commission

[Docket No. CP09-91-000]

High Island Offshore System, LLC; Notice of Petition for Declaratory Order

April 7, 2009.

Take notice that on March 31, 2009, High Island Offshore System, LLC (HIOS), 1100 Louisiana Street, Houston Texas 77002 in Docket No. CP09-91-000, filed a Petition for Declaratory Order, requesting that the Commission declare that all HIOS facilities located at and upstream of High Island Block A-264 are in their entirety, gathering facilities and not subject to the Commission's jurisdiction under the Natural Gas Act (NGA).

Any person desiring to intervene or to protest this filing in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date indicated below. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. Persons unable to file electronically should submit an original and 14 copies of the intervention or protest to the Federal Energy Regulatory Commission, 888 First St., NE., Washington, DC 20426.

This filing is accessible On-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time, April 30, 2009.

Kimberly D. Bose,
Secretary.

[FR Doc. E9-8460 Filed 4-13-09; 8:45 am]

BILLING CODE 6717-01-P